DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301)-443-1129.

The following request has been submitted to the Office of Management and Budget for review under the Paperwork Reduction Act of 1995.

Proposed Project: Healthy Schools, Healthy Communities Program Data Collection and Progress Report (OMB No. 0915-0188)—Revision

This is a request for revision of approval of the Healthy Schools, Healthy Communities Program Data Collection, which contains the annual reporting requirements for the Healthy Schools, Healthy Communities grantees funded by the Bureau of Primary Health Care (BPHC), HRSA. Authorizing legislation is found in Public Law 104-299, Health Center Consolidation Act of 1996, enacting Section of the Public Health Service Act.

The Healthy Schools, Healthy Communities program provides comprehensive primary and preventive health care services. The purpose of the progress report is to collect data specific to school health services, such as service utilization, health problems and risk behaviors.

The estimated response burden is as follows:

Form | Number of respondents | Responses per respondent | Hours per response | Total burden hour
Progress Report | 265 | 1 | 2 | 530

Written comments and recommendations concerning the proposed information collection should be sent within 30 days of this notice to: John Morrall, Human Resources and Housing Branch, Office of Management and Budget, New Executive Office Building, Room 10235, Washington, DC 20503.

Dated: August 14, 2001.
Jane M. Harrison,
Director, Division of Policy Review and Coordination.

[FR Doc. 01-20984 Filed 8-20-01; 8:45 am]

BILLING CODE 4165-15-P